DEPARTMENT OF ENERGY

10 CFR Part 951

[Docket Number DOE-HQ-2014-0021]

RIN 1990-AA39

Convention on Supplementary Compensation for Nuclear Damage Contingent Cost Allocation

AGENCY: Office of General Counsel, U.S Department of Energy.

ACTION: Notice of public workshop.

SUMMARY: This document provides information on a public workshop to discuss the U.S. Department of Energy's (DOE) notice and request for comment on a proposed collection of information. DOE developed the proposed collection of information in connection with the notice of proposed rulemaking on the Convention on Supplementary Compensation for Nuclear Damage Contingent Cost Allocation (NOPR) in which it proposed regulations to establish a retrospective risk pooling program covering nuclear suppliers that may be required under certain circumstances to pay for any contribution by the United States government to the international supplementary fund created by the Convention for Supplementary Compensation for Nuclear Damage.

DATES: DOE will hold a public workshop on Friday, September 16, 2016 from 9 a.m. to 12 noon, in Washington, DC. DOE will accept comments, data, and information received no later than October 3, 2016, which is the close of the comment period on the Notice. DOE will accept for consideration questions or suggestions on topics for comment in advance of the public workshop, by Wednesday, September 7, 2016.

ADDRESSES: The public workshop will be held at the U.S. Department of Energy, Forrestal Building, Room 1E-245, 1000 Independence Avenue SW., Washington, DC 20585-0121. For details regarding attendance at the public workshop see the Public Participation section of this notice.

Any comments submitted on the proposed information collection must identify docket number DOE-HQ-2014-0021 and/or regulatory information number (RIN) 1990-AA39. Comments may be submitted using any of the following methods:

1. Federal eRulemaking Portal: www.regulations.gov. Follow the instructions for submitting comments.

2. Email: Section934Rulemaking@Hq.Doe.gov.

3. Mail: Ms. Sophia Angelini, U.S. Department of Energy, Office of General Counsel, Mailstop GC-72, Section 934 Rulemaking, 1000 Independence Avenue SW., Washington DC 20585. Please submit one signed original and three copies of all comments submitted by mail.

Docket: For access to the docket to read background documents or comments received, go to the Federal eRulemaking Portal at http://www.regulations.gov, or the Web site specifically established for this proceeding: http://www.energy.gov/gc/convention-supplementary-compensation-rulemaking. To obtain a copy of the proposed information collection instrument and instructions go to the Web site specifically established for this proceeding: http://www.energy.gov/gc/convention-supplementary-compensation-rulemaking.

FOR FURTHER INFORMATION CONTACT: Sophia Angelini, Attorney-Adviser, Office of General Counsel for Civilian Nuclear Programs, GC-72, U.S. Department of Energy, 1000 Independence Avenue SW., Washington, DC 20585; Telephone (202) 586-0319.

SUPPLEMENTARY INFORMATION:

Background

Elsewhere in this issue of the Federal Register, DOE published a request for comments on a proposed information collection that requires approval from the Office of Management and Budget pursuant to the Paperwork Reduction Act of 1995. DOE developed the information collection in connection with a NOPR in which it proposed regulations to establish a retrospective risk pooling program covering nuclear suppliers that may be required under certain circumstances to pay for a contribution by the United States government to the international supplementary fund created by the Convention on Supplementary Compensation for Nuclear Damage. (79 FR 75076, Dec. 17, 2014) DOE issued these proposed regulations pursuant to section 934 of the Energy Independence and Security Act of 2007.

DOE held an information session on the proposed regulation on January 7, 2015, followed by a day-long public workshop on February 20, 2015 (80 FR 4227). On March 9, 2015, DOE granted an extension of the public comment period on the NOPR to April 17, 2015 (80 FR 12352). The extension notice highlighted areas of particular attention for public comment, and indicated DOE's intent to conduct additional data and information gathering in response to and in consideration of comments provided in the public review and comment process. In sum, commenters on the NOPR suggested that DOE's proposed formula to calculate the retrospective premium payment was unnecessarily complex, reporting requirements for nuclear suppliers were unduly burdensome, and additional data and information on nuclear suppliers and exports were needed to support the rulemaking and enable the public to provide DOE with meaningful comments.

DOE is now proposing this information collection to gather such additional data and information from the nuclear industry in support of further development of its rulemaking. Since receiving public comments on the NOPR, and as suggested in those comments, DOE has conducted additional information and data gathering involving other relevant federal agencies. While DOE continues to review and consider this additional information and data, the proposed information collection is necessary to provide information not reported to or available from other federal agencies to inform and advance the rulemaking process. In addition, the information and data requested in the proposed information collection reflect in part comments submitted by the public on recommended risk allocation formulas and related information and data needs. One commenter, the Nuclear Energy Institute, provided a specific and detailed recommendation on an industry model for a retrospective risk pooling program, with alternative methods of risk allocation. The proposed information collection is designed in part to obtain the information that could support a regulation based on that model. For example, the information collection is focused on the export of nuclear goods and services to industry sectors, rather than on specific types of nuclear goods and services exported. DOE also seeks in the proposed information collection to obtain information and data needed to assess and affirm the number and type of nuclear suppliers exporting nuclear goods and services and the value of those goods and services, to refine the scope and applicability of the retrospective risk pooling program within the nuclear supplier community.

The proposed information collection is a one-time effort to facilitate development of the regulation; it is separate from and not intended to be the same as the information that would be collected in connection with any reporting requirements that would take effect after promulgation of a final regulation.

Upon approval of the information collection, and following review and analysis of the information and data obtained from nuclear suppliers in response, DOE will determine whether it is appropriate to issue a supplemental proposed regulation. As this process advances, DOE also intends to engage the public in additional opportunities for review and comment on the rulemaking, including on any supplemental proposal that is issued.

To facilitate discussion at the public workshop, DOE encourages participants to provide views and comments on the proposed information collection form which may be viewed at http://www.energy.gov/gc/convention-supplementary-compensation-rulemaking as well as on the following topics: (1) Does the information collection form seek appropriate and sufficient information and data from nuclear suppliers to support further development of DOE's proposed regulation, in particular with respect to the risk-informed formula; (2) is the information collection request too broad or too narrow, and if so, in what way; (3) has DOE overestimated or underestimated the number of respondents to the information collection form and if so, by how much; (4) has DOE overestimated or underestimated the burden hours of each respondent to the collection form and if so, by how much; (5) has DOE overestimated or underestimated the cost per respondent to collect the information requested in the form and if so, by how much; (6) what additional information, if any, should DOE include in the information collection form to support further development of its proposed regulation; and (7) are there other actions, in addition to the issuance of the proposed information collection form, that DOE should consider or pursue to obtain the information and data to support further development of its proposed regulation. DOE requests commenters provide any underlying data or other information in support of their views and comments in a manner sufficient to allow DOE to also review, assess and verify such data and information as appropriate.

Public Participation

A. Attendance at Public Workshop

If you plan to attend the public workshop, please notify Alencia Jenkins at (202) 586-0426 or by email: alencia.jenkins@hq.doe.gov. Please note that foreign nationals visiting DOE Headquarters are subject to advance screening procedures which require advance notice prior to attendance at the public workshop. If a foreign national wishes to participate in the public workshop, please inform DOE of this fact as soon as possible by contacting Alencia Jenkins at (202) 586-0426 or by email to alencia.jenkins@hq.doe.gov so that the necessary procedures may be implemented.

Due to the REAL ID Act implemented by the Department of Homeland Security (DHS), there have been recent changes regarding ID requirements for individuals wishing to enter Federal buildings from specific states and U.S. territories. Drivers' licenses from the following states or territory will not be accepted for building entry and one of the alternate forms of ID listed below will be required. DHS has determined that regular drivers' licenses (and ID cards) from the following jurisdictions are not acceptable for entry into DOE facilities: Alaska, American Samoa, Arizona, Louisiana, Maine, Massachusetts, Minnesota, New York, Oklahoma and Washington. Acceptable alternate forms of Photo-ID include: U.S. Passport or Passport Card; an Enhanced ID-Card issued by the states of Minnesota, New York, or Washington (Enhanced licenses issued by these states are clearly marked Enhanced or Enhanced Drivers' License); or a military ID or other Federal government issued Photo-ID card.

DOE requires visitors with laptop computers to be checked upon entry into the building. Any person wishing to bring these devices into the Forrestal Building will be required to obtain a property pass. Visitors should avoid bringing these devices, or allow an extra 45 minutes to check in. Please report to the Visitors' Desk to have these devices checked before proceeding through security.

B. Conduct of Public Workshop

The Department will designate a DOE official to preside at the public workshop and may also use a professional facilitator to aid discussion. A court reporter will be present to record the proceeding and prepare a transcript. DOE reserves the right to schedule the order of presentations and to establish the procedures governing the conduct of the public workshop. Interested parties may submit comments on the proposed information collection at any point until the end of the comment period.

The workshop will be conducted in an informal, conference style. DOE will allow time for prepared general statements by participants, and encourage all interested parties to share their views on issues affecting the proposed information collection.

Each participant will be allowed to make a general statement (within time limits determined by DOE), before the discussion of specific topics. DOE will permit, as time allows, other participants to comment briefly on any general statements. At the end of all prepared statements, DOE will permit participants to clarify their statements briefly and comment on statements made by others. Participants should be prepared to answer questions by DOE and by other participants concerning these issues. DOE representatives may also ask questions concerning other matters relevant to this information collection. The official conducting the public workshop will accept additional comments or questions from those attending, as time permits. The presiding official will announce any further procedural rules or modification of the above procedures that may be needed for the proper conduct of the public workshop.

In addition, DOE will accept for consideration questions or suggestions on topics for comment in advance of the public workshop, by September 7, 2016. If you wish to submit questions or suggestions on topics for comment, please submit them via one of the means provided in the ADDRESSES section of this notice. DOE may use the questions or topic suggestions to structure the discussion and enhance participation. A transcript of the public workshop will be included in the docket, which can be viewed as described in the Docket section of this notice.

C. Procedure for Submitting Prepared General Statements and Suggested Topics

Persons who plan to present a prepared general statement may request that copies of the statement be made available at the public workshop. Such persons may submit requests, along with an advance electronic copy of their statement in PDF to the appropriate address shown in the ADDRESSES section of this notice. The request and advance copy of statements must be received by September 7, 2016 and may be emailed, or sent by mail. DOE prefers to receive requests and advance copies via email. Please include a telephone number to enable DOE staff to make a follow-up contact, if needed.

Persons who plan to submit questions and topic suggestions for the public workshop must do so by September 7, 2016, via email or by mail, to the appropriate address shown in the ADDRESSES section of this notice. DOE prefers to receive the requests via email. Please include a telephone number to enable DOE staff to make a follow-up contact, if needed.

D. Submission of Comments

DOE will continue to accept comments, data, and information concerning this proposed information collection before and after the public workshop, but no later than October 3, 2016. Interested parties may submit comments using any of the methods described in the ADDRESSES section of this notice.

Issued in Washington, DC, on July 29, 2016.
Samuel T. Walsh,
Deputy General Counsel for Energy Policy, Office of General Counsel.

[FR Doc. 2016-18368 Filed 8-2-16; 8:45 am]

BILLING CODE 6450-01-P